DEPARTMENT OF COMMERCE

Census Bureau

Census Scientific Advisory Committee

AGENCY: Census Bureau, Department of Commerce.

ACTION: Notice of public meeting.

SUMMARY: The Census Bureau is giving notice of a meeting of the Census Scientific Advisory Committee (CSAC or Committee). The Committee will address policy, research, and technical issues relating to a full range of Census Bureau programs and activities, including decennial, economic, field operations, information technology, and statistics. Last minute changes to the schedule are possible, which could prevent giving advance public notice of schedule adjustments.

DATES: The virtual meeting will be held on:

• Thursday, September 21, 2023, from 8:30 a.m. to 5 p.m. EDT, and

• Friday, September 22, 2023, from 8:30 a.m. to 2:30 p.m. EDT.

ADDRESSES: Please visit the Census Advisory Committee website at https://www.census.gov/about/cac/sac/meetings/2023-09-meeting.html, for the CSAC meeting information, including the agenda, and how to view the meeting.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The Committee provides scientific and technical expertise to address Census Bureau program needs and objectives. The members of the CSAC are appointed by the Director of the Census Bureau. The Committee has been established in accordance with the Federal Advisory Committee Act (FACA), 5 U.S.C. app.

All meetings are open to the public. Public comments will be accepted in writing only to shana.j.banks@census.gov (subject line “2023 CSAC Fall Meeting Public Comment”). A brief period will be set aside during the meeting to read public comments received in advance of 12 p.m. EDT, September 21, 2023. Any public comments received after the deadline will be posted to the website listed in the ADDRESSES section.

Robert L. Santos, Director, Census Bureau, approved the publication of this Notice in the Federal Register.

Dated: August 24, 2023.
Shannon Wink,
Program Analyst, Policy Coordination Office, U.S. Census Bureau.

[FR Doc. 2023-18927 Filed 8-31-23; 8:45 am]

BILLING CODE 3510-07-P